DEPARTMENT OF HOMELAND SECURITY

Bureau of Customs and Border Protection

Automated Commercial Environment (ACE): National Customs Automation Program Test of Automated Truck Manifest for Truck Carrier Accounts; Deployment Schedule

AGENCY: Customs and Border Protection; Department of Homeland Security.

ACTION: General notice.

SUMMARY: The Bureau of Customs and Border Protection, in conjunction with the Department of Transportation, Federal Motor Carrier Safety Administration, is currently conducting a National Customs Automation Program (NCAP) test concerning the transmission of automated truck manifest data. This document announces a modification of the deployment schedule for this test.

DATES: The test will be operational as of June 1, 2005, at each port identified in this notice as part of the first cluster of ports where the test will be deployed. Comments concerning this notice and all aspects of the announced test may be submitted at any time during the test period.

FOR FURTHER INFORMATION CONTACT: Mr. Thomas Fitzpatrick via e-mail at Thomas.Fitzpatrick@dhs.gov.

SUPPLEMENTARY INFORMATION:

Background

The National Customs Automation Program (NCAP) test concerning the transmission of automated truck manifest data for truck carrier accounts was announced in a General Notice published in the Federal Register (69 FR 55167) on September 13, 2004. That notice stated that the test of the Automated Truck Manifest will be conducted in a phased approach, with primary deployment scheduled for no earlier than November 29, 2004. The document identified the ports of Blaine, Washington, and Buffalo, New York, as the original deployment sites.

The September 13, 2004, notice stated that subsequent deployment of the test will occur at Champlain, New York; Detroit, Michigan; Laredo, Texas; Otay Mesa, California; and Port Huron, Michigan, on dates to be announced. The notice stated that the Bureau of Customs and Border Protection (CBP) would announce the implementation and sequencing of truck manifest functionality at these ports as they occur. The test is to be expanded eventually to include ACE Truck Carrier Account participants at all land border ports, and subsequent releases of ACE will include all modes of transportation. The September 13, 2004, notice announced that additional participants and ports will be selected throughout the duration of the test.

Implementation of the Test

The test commenced in Blaine, Washington, in December 2004, but not at Buffalo, New York. In light of experience with the implementation of the test in Blaine, Washington, CBP has decided to change the implementation schedule. Buffalo, New York, will not be the next test site.

The next deployment sites will be brought up as a cluster. One site in the cluster will be identified as the “model site” for the cluster. This deployment strategy will allow for more efficient equipment set-up, site checkouts, port briefings and central training.

The ports identified belonging to the first cluster include the original port of implementation—Blaine, Washington. However, Sumas, Washington, will be the model port. The other ports of deployment in the cluster include the following: Point Roberts, WA; Oroville, WA (including sub ports); Boundary, WA; Danville, WA; Ferry, WA; Frontier, WA; Laurier, WA; Metaline Falls, WA; Nighthawk, WA; and Lynden, WA.

Previous Notices

On Monday, March 21, 2005, a General Notice was published in the Federal Register (70 FR 13514) announcing a modification to the NCAP test to clarify that all relevant data elements are required to be submitted in the automated truck manifest submission. That notice did not announce any change to the deployment schedule and is not affected by publication of this notice. All requirements and aspects of the test discussed in the March 21, 2005 notice, or any other previous notices, except to the extent expressly modified by this new notice, are hereby incorporated by reference into this notice and continue to be applicable.

Dated: May 19, 2005.
Jayson P. Ahern,
Assistant Commissioner, Office of Field Operations.

[FR Doc. 05-10700 Filed 5-27-05; 8:45 am]

BILLING CODE 4820-02-P